DEPARTMENT OF TRANSPORTATION

Office of the Secretary

[Docket No. DOT-OST-2023-0063]

Agency Information Collection Activities: Approval of Information Collection

AGENCY: Office of the Secretary (OST), DOT.

ACTION: 60-Day notice and request for comments.

SUMMARY: The Department of Transportation (DOT) invites public comments on our intention to request Office of Management and Budget (OMB) approval for an information collection in accordance with the requirements of the Paperwork Reduction Act of 1995. The collection is necessary for administration of the Multimodal Project Discretionary Grants (MPDG). This includes three funding opportunities: the “National Infrastructure Project Assistance grants program (Mega),” the “Nationally Significant Multimodal Freight and Highways Projects grants program (INFRA)”, and the “Rural Surface Transportation Grant program (Rural)”. The MPDG provides Federal financial assistance for surface transportation infrastructure projects—including highway and bridge, intercity passenger rail, railway-highway grade and separation, wildlife crossing, public transportation, marine highway, and freight and multimodal projects, or groups of such projects, of national or regional significance, as well as to projects to improve and expand the surface transportation infrastructure in rural areas.

DATES: Written comments should be submitted by August 29, 2023.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor Room W12-140, Washington, DC 20590-0001.

• Hand Delivery: West Building Ground Floor, Room W-12-140 1200 New Jersey Ave. SE, between 9 a.m. and 5 p.m., Monday through Friday, except Federal holidays. The telephone number is 202-366-9329.

Instructions: To ensure proper docketing of your comment, please include the agency name and docket number [DOT-OST-2023-0063] at the beginning of your comments. All comments received will be posted without change to http://www.regulations.gov, including any personal information provided.

FOR FURTHER INFORMATION CONTACT: For further information regarding this notice, please contact the Office of the Secretary via email at MPDGgrants@dot.gov, or call Paul Baumer at (202) 366-1092. A TDD is available for individuals who are deaf or hard of hearing at 202-366-3993.

SUPPLEMENTARY INFORMATION: New Collection. OMB number will be issued after the collection is approved.

Title: Multimodal Project Discretionary Grant (MPDG).

Form Numbers: None.

Type of Review: New Information Collection Request (ICR).

Background: The Office of the Secretary (“OST”) within the Department of Transportation (DOT) provides financial assistance for surface transportation infrastructure projects—including to highway and bridge, intercity passenger rail, railway-highway grade and separation, wildlife crossing, public transportation, marine highway, and freight and multimodal projects, or groups of such projects, of national or regional significance, as well as to projects to improve and expand the surface transportation infrastructure in rural areas. Infrastructure Investment and Jobs Act (Pub. L. 117-58, November 15, 2021) (Bipartisan Infrastructure Law, or BIL) provided funds to the Department across three programs to invest in projects of national or regional significance—the National Infrastructure Project Assistance grants program, found under 49 U.S.C. 6701 (“Mega”), the Nationally Significant Multimodal Freight and Highways Projects grants program, found at 23 U.S.C. 117 (Infrastructure for Rebuilding America or “INFRA”), and the Rural Surface Transportation Grant program, found at 23 U.S.C. 173 (“Rural”). To help streamline the process for applicants, the Department has combined the applications for the Mega, INFRA, and Rural programs into the MPDG common application.

The Nationally Significant Multimodal Freight and Highways Projects grants program (“INFRA”) (23 U.S.C. 117) was established in the Fixing American's Surface Transportation Act of 2015 (“FAST ACT”), Public Law 114-94 sec. 1105, and continued in the Infrastructure Investment and Jobs Act, Public Law 117-58 (2021). OST is referring to these grants as “FASTLANE” or “INFRA” Discretionary Grants, depending on the year of award.

The Bipartisan Infrastructure Law established two new programs along with the reauthorization of INFRA. The Mega Program, known statutorily as the National Infrastructure Project Assistance program (49 U.S.C. 6701), will support large, complex projects that are difficult to fund by other means and likely to generate national or regional economic, mobility, or safety benefits. The Rural Surface Transportation Grant Program (23 U.S.C. 173) will support projects to improve and expand the surface transportation infrastructure in rural areas to increase connectivity, improve the safety and reliability of the movement of people and freight, and generate regional economic growth and improve quality of life.

The DOT combined these three programs into single Notice of Funding Opportunity (NOFO) to provide a more efficient application process for project sponsors. While they remain separate programs for the purposes of award, the programs share many common characteristics. Because of these shared characteristics, it is possible for many projects to be eligible and considered for multiple programs using a single application.

This notice seeks comments on the proposed information collection, which will collect information necessary to support the ongoing oversight and administration of previous awards, the evaluation and selection of new applications, the funding agreement negotiation stage for new awards, and the evaluation of the programs.

The reporting requirements for the program is as follows:

To be considered to receive a MPDG grant, a project sponsor must submit an application to DOT containing a project narrative, as detailed in the NOFO. The project narrative should include the information necessary for the Department to determine that the project satisfies eligibility requirements as warranted by law.

After the award announcement the Department will send out a voluntary survey to all applicants and webinar participants to help evaluate the application process.

Following the announcement of a funding award, the recipient and DOT will negotiate and sign a funding agreement. In the agreement, the recipient must describe the project that DOT agreed to fund, which is the project that was described in the MPDG application or a reduced-scope version of that project. The agreement also includes project schedule milestones, a budget, and project-related climate change and equity planning and policies.

During the project monitoring stage, grantees will submit reports on the financial condition of the project and the project's progress. Grantees will submit progress and monitoring reports to the Government on a quarterly basis until completion of the project. The progress reports will include an SF-425, Federal Financial Report, and other information determined by the administering DOT Operating Administration. This information will be used to monitor grantees' use of Federal funds, ensuring accountability and financial transparency in the MPDG programs.

For the purposes of estimating the information collection burden below for new applicants and awardees, the Department is assuming that for each year 2023-2025, the Department will review approximately 500 applications in Year 1, negotiate 45 funding agreements in Year 2, and begin quarterly project monitoring for 45 projects in Year 3. For a new applicant in 2023, their burden will be 100 hours in 2023, 6 hours in 2024, and 20 hours in 2025. See Table 1 below:

Table 1
Respondent | Year 1 (2023): Hours | Year 1 (2023): Frequency | Year 2 (2024): Hours | Year 2 (2024): Frequency | Year 3 (2025): Hours | Year 3 (2025): Frequency | Total
2023 Applicant (500) | 100 | 1 |  |  |  |  | 50,000
2023 Survey (700) | 0.5 | 1 |  |  |  |  | 350
2023 Awardee (45) |  |  | 6 | 1 |  |  | 270
2023 Recipient (45) |  |  |  |  | 5 | 4 | 900
2024 Applicant (500) |  |  | 100 | 1 |  |  | 50,000
2024 Survey (700) | 0.5 | 1 |  |  |  |  | 350
2024 Awardee (45) |  |  |  |  | 6 | 1 | 270
2024 Recipient (45) |  |  |  |  |  |  |
2025 Applicant (500) |  |  |  |  | 100 | 1 | 50,000
2025 Survey (700) | 0.5 | 1 |  |  |  |  | 350
2025 Awardee (45) |  |  |  |  |  |  |
2025 Recipient (45) |  |  |  |  |  |  |

This Notice is separately estimating the information collection burden for projects awarded from 2016-2022. Approximately 60 of these projects are in the project monitoring phase in Year 1, while 47 projects are still negotiating funding agreements. In Year 2, approximately 30 of these projects will begin project monitoring, while approximately 20 projects will cease reporting once their projects are completed. In Year 3, 10 projects will begin project monitoring while 20 projects will cease reporting. The individual burden for a project awarded from 2016-2021 will depend on when they were selected, when they completed negotiation of their funding agreement, and when their project reaches completion. See Table 2 below:

Table 2
Respondent | Year 1: Number | Year 1: Hrs | Year 1: Freq | Year 2: Number | Year 2: Hrs | Year 2: Freq | Year 3: Number | Year 3: Hrs | Year 3: Freq | Total
2016-2022 Awardee | 47 | 4 | 1 | 10 | 4 | 1 | 0 | 4 | 1 | 200
2016-2022 Recipient | 70 | 5 | 4 | 77 | 5 | 4 | 64 | 5 | 4 | 3,800
2016-2022 Project Closed | 0 | 0 | 0 | 20 | 0 | 0 | 43 | 0 | 0 |

The Department's estimated burden for this information collection is the following:

For New Applications:

Expected Number of Respondents: Approximately 500 per year.

Frequency: Once.

Estimated Average Burden per Response: 100 hours for each new Application;

For Funding Agreements:

Expected Number of Respondents: Approximately 45 in Year 1, 2 and 3.

Frequency: Once.

Estimated Average Burden per Response: 6 hours for each new Funding Agreement.

For Project Monitoring:

Expected Number of Respondents: Approximately 47 in Year 1, 93 in Year 2, 130 in Year 3.

Frequency: Quarterly.

Estimated Average Burden per Response: 5 hours for each request for Quarterly Progress and Monitoring Report;

For Program Evaluation (Survey):

Expected Number of Respondents: Approximately 700 per year.

Frequency: Once.

Estimated Average Burden per Response: 0.5 hours for each application;

Estimated Total 3-year Burden on Respondents: 80,750 hours. (New Applicants [75,000 hrs], Survey [1,050 hrs] New Awardees/Recipients [700 hrs] + Prior Awardees/Recipients [4000 hrs]).

The following is detailed information and instructions regarding the specific reporting requirements for each report identified above:

Application Stage

To be considered to receive a MPDG grant, a project sponsor must submit an application to DOT containing a project narrative, as detailed in the NOFO. The project narrative should include the information necessary for the Department to determine that the project satisfies eligibility requirements.

Applications must be submitted through www.Grants.gov. Instructions for submitting applications can be found at https://www.transportation.gov/grants/mpdg-how-apply. The application must include the Standard Form 424 (Application for Federal Assistance), Standard Form 424C (Budget Information for Construction Programs), cover page, and the Project Narrative.

The application should include a table of contents, maps, and graphics, as appropriate, to make the information easier to review. The Department recommends that the application be prepared with standard formatting preferences (i.e., a single-spaced document, using a standard 12-point font such as Times New Roman, with 1-inch margins). The project narrative may not exceed 25 pages in length, excluding cover pages and table of contents. The only substantive portions that may exceed the 25-page limit are documents supporting assertions or conclusions made in the 25-page project narrative. If possible, website links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged.

OST estimates that it takes approximately 100 person-hours to compile an application package for a MPDG application. Since OST expects to receive 500 applications per funding round, the total hours required are estimated to be 50,00 hours (100 hours × 500 applications = 50,000 hours) on a one-time basis, per funding round.

Program Evaluation Stage (Survey)

To understand the MPDG grant process from the applicant's point of view, OST plans to send out a survey after all award decisions have been made. This survey will go to all applicants, both successful and unsuccessful, as well as webinar participants that did not apply and will take approximately .5 hours to complete.

Funding Agreement Stage

DOT enters a funding agreement with each recipient. In the agreement, the recipient describes the project that DOT agreed to fund, which is typically the project that was described in the MPDG application or a reduced-scope version of that project. The agreement also includes a project schedule, budget, and project related climate change and equity planning and policies.

OST estimates that it takes approximately 6 person-hours to respond to provide the information necessary for funding agreements. Based on previous rounds of MPDG awards, OST estimates that there will likely be 45 agreements negotiated per additional funding round. The total hours required are estimated to be 270 (6 hours × 45 agreements = 270 hours) on a one-time basis, per funding round.

Project Monitoring Stage

OST requires each recipient to submit quarterly reports during the project to ensure the proper and timely expenditure of Federal funds under the grant.

The requirements comply with 2 CFR part 200 and are restated in the funding agreement. During the project monitoring stage, the grantee will complete Quarterly Progress Reports to allow DOT to monitor the project budget and schedule.

OST estimates that it takes approximately 5 person-hours to develop and submit a quarterly progress report. OST expects approximately 45 projects to be awarded per funding round, while grants awarded in prior years will reach completion during the year and would no longer need to submit these reports. OST expects recipients and awardees from 2016-2021 will require 3800 hours to submit project monitoring reports while new recipients and awardees will require 900 hours from 2023-2025.

Authority: The Paperwork Reduction Act of 1995; 44 U.S.C. chapter 35, as amended; and 49 CFR 1:48.

Issued in Washington, DC, on June 26, 2023.
John Augustine,
Director of the Office of Infrastructure Finance and Innovation, Office of the Under Secretary for Transportation Policy.

[FR Doc. 2023-13939 Filed 6-29-23; 8:45 am]

BILLING CODE 4910-9X-P